SOCIAL SECURITY ADMINISTRATION

Statement of Organization, Functions and Delegations of Authority

This statement amends Part S of the Statement of the Organization, Functions and Delegations of Authority which covers the Social Security Administration (SSA). Chapter S2 covers the Deputy Commissioner, Operations. Notice is given that Subchapter S2N, the Office of Public Service and Operations Support (OPSOS), is being amended to reflect the establishment of the Division of Systems Security and Program Integrity (S2NE) under the Associate Commissioner for Public Service and Operations Support. The remaining divisions in OPSOS are being retitled to more accurately reflect their functions. The functions in two of the three existing divisions are being realigned. The new material and changes are as follows:

Section S2N.10 The Office of Public Service and Operations

Support—(Organization)

Retitle

D. The “Division of Service Delivery and Program Policy” (S2NA) to the “Division of Program Policy and Operations” (S2NA).

E. The “Division of Operations Management” (S2NB) to the “Division of Operations Analysis and Customer Service” (S2NB).

F. The “Division of Resource and Management Information” (S2NC) to the “Division of Resource Management and Employee Services” (S2NC).

Establish

G. The Division of Systems Security and Program Integrity (S2NE).

Section S2N.20 The Office of Public Service and Operations

Support—(Functions)

C. The Immediate Office of the Associate Commissioner for Public Service and Operations Support (S2N): Delete the final sentence, i.e., “Coordinates and implements a comprehensive DCO nationwide program to focus on systems security and programmatic fraud.”

Retitle

D. The “Division of Service Delivery and Program Policy” (S2NA) to the “Division of Program Policy and Operations” (S2NA).

Delete

Functional statement numbers 7 through 12.

Retitle

E. The “Division of Operations Management” (S2NB) to the “Division of Operations Analysis and Customer Service” (S2NB).

Delete

Functional statement number 5.

Add

5. Participates with appropriate policy components in SSA to provide clear, accurate and timely notices to the public and to fully utilize automation to reduce the need for manually prepared notices.

6. Develops and recommends to DCO standards and practices for national and international delivery of services. Plans, implements and evaluates the full range of SSA's service to the public.

7. Establishes service delivery policies. Develops and evaluates standards for measuring service to the public to ensure that quality, efficient and compassionate service is provided.

8. Plans, conducts and evaluates public information/referral programs to ensure Agency and other public and private services are effectively provided to the community within the guidelines and direction provided by the Agency. Ensures SSA's public affairs/information efforts are implemented effectively and efficiently within DCO components.

9. Establishes policies and develops criteria on field office accessibility (hours of service, size of field offices, type and location of services, etc.).

10. Directs the planning, analysis and evaluation of field office structure and develops innovative concepts for the future role of DCO components, including improvements in service.

Retitle

F. The “Division of Resource and Management Information” (S2NC) to the “Division of Resource Management and Employee Services” (S2NC).

Establish

G. The Division of Systems Security and Program Integrity (S2NE).

1. Coordinates and implements a comprehensive DCO nationwide program to focus on systems security and programmatic fraud.

2. Conducts nationwide analyses and studies to identify potential problems and develops guidelines/procedures to ensure an effective and efficient Operations security and integrity program.

3. Develops and maintains a comprehensive national program to focus attention on combating beneficiary and recipient fraud and develops recommendations for improving operational policy, procedures and internal controls to prevent recurrence.

4. Assesses security vulnerabilities. Evaluates overall plans and proposals for major Agency and interagency security projects and provides analysis for use in security program planning, implementation, evaluation and modification efforts.

5. Implements national level guidance in Agency standards, guidelines, or policies for major security programs.

6. Provides direction and coordination to the activities of the Regional Centers for Security and Integrity.

7. Ensures that training on security and program integrity is available and maintains a continuing awareness program.

8. Develops or interprets general policy direction for application on an organization-wide basis and conducts oversight reviews on the effectiveness of programs and practices.

9. Advises top-level DCO executives and security managers on new developments and advances in security techniques and keeps them informed of sensitive issues regarding beneficiary/recipient fraud, employee fraud and systems abuses.

10. Creates workflows and processes with systemic safeguards to prevent errors and ensure a full audit trail for automated and paper products.

11. Provides direction and coordination on sensitive cases involving employee fraud and abuse, including providing guidance to Operations executives regarding the appropriate disciplinary action.

12. Serves as Operations representative on the Agency's Critical Infrastructure Response Team responsible for responding to external and internal threats to the Agency's systems architecture.

13. Develops Operations systems access matrixes for new and/or existing applications to support the Agency's policy of least privilege access to SSA's various computer systems and monitors the profiles created to ensure the level of access is appropriate based on job duties and function of the application.

14. Develops and coordinates nationwide analysis and monitoring by the Regional Centers for Security and Integrity of the user accounts established within SSA's network systems architecture to identify vulnerabilities and monitor compliance.

15. Provides direction and guidance to Operations executives regarding security and privacy issues in connection with advances in the areas of electronic commerce, internet applications and intranet websites.

Paul D. Barnes,
Deputy Commissioner for Human Resources.

[FR Doc. 01-2456 Filed 1-26-01; 8:45 am]

BILLING CODE 4191-02-P